DEPARTMENT OF JUSTICE

Notice of Lodging of Third Round De Minimis Consent Decree Under the Comprehensive Environmental Response, Compensation and Liability Act

Notice is hereby given that on December 2, 2005, a proposed Third Round De Minimis Consent Decree in United States v. Airco Co., et al. Civil Action No. 05-1671, was lodged with the United States District Court for the Western District of Pennsylvania. This Consent Decree relates to three other matters before the same Court: United States v. Allegheny Ludlum Corp., et al., C.A. No. 97-1863, United States v. Aetna, Inc., et al. No. 05-15, and United States v. Chevy Chase Cars, et al., C.A. No. 05-1222. All four matters are Superfund cost recovery actions commenced by the United States against potentially responsible parties relating to the Breslube Penn Superfund Site in Coraopolis, Moon Township, Pennsylvania.

In the Airco Co., et al. action, the United States seeks the recovery of response costs incurred in connection with the Breslube Penn Superfund Site. The complaint alleges that each of the named defendants arranged for the treatment and/or disposal of wastes containing hazardous substances at the Site, within the meaning of 42 U.S.C. 9607(a)(3). The complaint names 20 defendants, each of which have signed the proposed Third Round De Minimis Consent Decree. Under the Airco Co., et al. Decree, each of the named defendants would pay a proportionate share of all past and future response costs incurred and to be incurred at the Site, plus a premium. In return for these payments, each defendant would receive a covenant not to sue by the United States, subject to certain reservations of rights, and contribution protection from suit by other potentially responsible parties. The total recovery under this Consent Decree should be approximately $412,000.

The Department of Justice will receive comments relating to this Consent Decree for a period of thirty (30) days from the date of this publication. Comments should be addressed to the Assistant Attorney General, Environment and Natural Resources Division, P.O. Box 7611, U.S. Department of Justice, Washington, DC 20044-7611, attention: Lisa A. Cherup, and should refer to United States v. Airco Co., et al., D.J. Ref. 90-11-3-1762/3.

The Airco Co., et al. Consent Decree may be examined at the Office of the United States Attorney for Western District of Pennsylvania, at 700 Grant Street, Suite 400, Pittsburgh, PA 15219 (ask for Robert Eberhardt), and at U.S. EPA Region III's Office, 1650 Arch Street, Philadelphia, PA (ask for Mary Rugala). During the public comment period, the United States v. Airco Co., et al. consent decree, may also be examined on the following Department of Justice Web site, http://www.usdoj.gov/enrd/open.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $11.00 (25 cents per page reproduction cost) for a full copy of the consent decree, or $6.50, for a copy without signature pages, payable to the U.S. Treasury.

Robert Brook,
Assistant Chief, Environmental Enforcement Section, Environment and Natural Resources Division.

[FR Doc. 05-24324 Filed 12-21-05; 8:45 am]

BILLING CODE 4410-15-M